DEPARTMENT OF ENERGY

Federal Energy Regulatory Commission

[Docket No. CP04-90-001]

Wyoming Interstate Company, Ltd.; Notice of Compliance Filing

August 31, 2004.

Take notice that on August 25, 2004, Wyoming Interstate Company, Ltd. (WIC) submitted a compliance filing pursuant the Commission's order issued May 11, 2004 at Docket No. CP04-90-000. WIC states that the filing implements the pro forma tariff sheets previously filed in this proceeding related to the Echo Springs Project.

WIC states that copies of its filing have been sent to all parties of record in this proceeding and affected state commissions.

Any person desiring to protest this filing must file in accordance with Rule 211 of the Commission's Rules of Practice and Procedure (18 CFR 385.214). Protests will be considered by the Commission in determining the appropriate action to be taken, but will not serve to make protestants parties to the proceeding. Such protests must be filed on or before the comment date. Anyone filing a protest must serve a copy of that document on all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern standard time on September 16, 2004.

Magalie R. Salas,
Secretary.

[FR Doc. E4-2123 Filed 9-8-04; 8:45 am]

BILLING CODE 6717-01-P